GOVERNMENT PRINTING OFFICE

Depository Library Council to the Public Printer; Meeting

The Depository Library Council to the Public Printer (DLC) will meet on Sunday, October 19, 2003, through Wednesday, October 22, 2003, in Arlington, Virginia. The sessions will take place from 1 p.m. until 3 p.m. and 7 p.m. to 9 p.m. on Sunday, 8:30 a.m. until 5 p.m. on Monday and Tuesday and from 8:30 a.m. until 3 p.m. on Wednesday. The meeting will be held at the Doubletree Hotel Crystal City, National Airport, 300 Army Navy Drive, Arlington, Virginia. The purpose of this meeting is to discuss the Federal Depository Library Program. All sessions are open to the public.

A limited number of rooms are being held for Council attendees at the rate of $150 (plus tax) single, $170 (plus tax) double. Reservations can be made by dialing toll free, 1-800-222-TREE or the hotel directly at (703) 416-4100. The rate is good for the meeting dates as well as the three (3) days prior to the meeting and the three (3) days after the meeting. To receive the Government rate, you must make your reservation no later than September 28, 2003 and mention that you are attending the Depository Library Council meeting. After that date, rooms will be subject to availability at the best obtainable rate.

William H. Turri,
Deputy Public Printer.

[FR Doc. 03-24071 Filed 9-23-03; 8:45 am]

BILLING CODE 1520-01-P